DEPARTMENT OF ENERGY

Federal Energy Regulatory Commission

[Project No. 2545-081 and Project No. 2552-058]

FPL Energy Maine Hydro, LLC; Notice of Intent To Conduct PubliC Meeting for the Fort Halifax Project

September 26, 2003.

On October 16, 2003, Commission staff will be hosting a technical meeting to discuss alternative means of fish passage at the Fort Halifax Project pursuant to the Commission's July 28, 2003 Order Staying License Requirement (104 FERC ¶ 61,135).

The meeting will allow Commission staff to discuss: (1) FPL Energy's August 1, 2003 status report in response to the July 28 Order; (2) information filed with the Commission by the various parties concerning the viability of fish passage alternatives; (3) the advantages and disadvantages of using fish pump technology for fish passage; (4) goals for number of adult fish returning to Sebasticook River; and (5) current estimates for returning fish to the Sebasticook River and the Kennebec River.

The meeting will specifically focus on the above topics to clarify information currently in the project file. Commission staff will review the record on file and be prepared to lead a discussion using information that has been filed by the various parties concerning fish pump technology. Commission staff ask all parties that plan to participate to be prepared to support statements with documented information.

The meeting will be held on October 16, 2003, at the Best Western/Governor's Inn, 356 Main Street, Waterville, Maine, from 1 p.m. to 4 p.m. Intervenors and other parties interested in this issue are invited to participate if they so desire. The meeting will be recorded by a stenographer and become part of the formal record of the Commission proceeding on the project.

Any questions about this notice should be directed to Bob Fletcher at the Federal Energy Regulatory Commission, (202) 502-8901.

Magalie R. Salas,
Secretary.

[FR Doc. 03-25019 Filed 10-2-03; 8:45 am]

BILLING CODE 6717-01-P